DEPARTMENT OF HEALTH AND HUMAN SERVICES

Centers for Disease Control and Prevention

Disease, Disability, and Injury Prevention and Control Special Emphasis Panel: Assessment of Proposed Revisions to the Youth Tobacco Survey: Impact on Measures of Youth Tobacco Use, Request for Application Number (RFA) DP07-001

Notice of Cancellation: This notice was published in the Federal Register on November 15, 2006, Volume 71, Number 220, page 66534. The meeting previously scheduled to convene on December 12, 2006 has been cancelled.

Contact Person for more Information: Brenda Colley Gilbert, Acting Director, Office of Extramural Research, National Center for Chronic Disease Prevention and Health Promotion, Centers for Disease Control and Prevention, 4770 Buford Highway, NE., MS K-92, Atlanta, GA 30341, Telephone 770.488.8390.

The Director, Management Analysis and Services Office, has been delegated the authority to sign Federal Register notices pertaining to announcements of meetings and other committee management activities, for both CDC and the Agency for Toxic Substances and Disease Registry.

Dated: November 17, 2006.
Alvin Hall,
Director, Management Analysis and Services Office, Centers for Disease Control and Prevention.

[FR Doc. E6-19996 Filed 11-24-06; 8:45 am]

BILLING CODE 4163-18-P